DEPARTMENT OF JUSTICE

[OMB Number 1121-0065]

Agency Information Collection Activities; Proposed eCollection eComments Requested; Extension of a Currently Approved Collection: National Corrections Reporting Program

AGENCY: Office of Justice Programs, Department of Justice.

ACTION: 30-Day notice.

SUMMARY: The Department of Justice (DOJ), Office of Justice Programs, Bureau of Justice Statistics, will be submitting the following information collection request to the Office of Management and Budget (OMB) for review and approval in accordance with the Paperwork Reduction Act of 1995.

DATES: The Department of Justice encourages public comment and will accept input until October 20, 2021.

FOR FURTHER INFORMATION CONTACT: If you have additional comments especially on the estimated public burden or associated response time, suggestions, or need a copy of the proposed information collection instrument with instructions or additional information, please contact Danielle Kaeble, Statistician, Bureau of Justice Statistics, 810 Seventh Street NW, Washington, DC 20531 (email: Danielle.Kaeble@usdoj.gov; telephone: 202-598-1024).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Extension of a Currently Approved Collection.

(2) The Title of the Form/Collection: National Corrections Reporting Program. The collection includes the following parts: Prisoner Admission Report, Prisoner Release Report, Prisoners in Custody at Year-end Report, Post-Custody Community Supervision Entry Report, Post-Custody Community Supervision Exit Report.

(3) The agency form number, if any, and the applicable component of the Department sponsoring the collection: Form number(s): NCRP-1A, NCRP-1B, NCRP-1D, NCRP-1E, NCRP-1F. The applicable component within the Department of Justice is the Bureau of Justice Statistics (Corrections Unit), in the Office of Justice Programs.

(4) Affected public who will be asked or required to respond, as well as a brief abstract: Primary: 50 state departments of corrections (DOCs) and 7 parole supervising agencies (in six states and the District of Columbia). The National Corrections Reporting Program (NCRP) is the only national data collection furnishing annual individual-level information for state prisoners at five points in the incarceration process: Prison admission, prison release, annual year-end prison custody census, entry to post-custody community corrections supervision, and exits from post-custody community corrections supervision. BJS, the U.S. Congress, researchers, and criminal justice practitioners use these data to describe annual movements of adult offenders through state correctional systems, as well as to examine long-term trends in time served in prison, demographic and offense characteristics of inmates, sentencing practices in the states that submit data, transitions between incarceration and community corrections, and recidivism. Providers of the data are personnel in the states' Departments of Corrections and Parole, and all data are submitted on a voluntary basis. The NCRP collects the following administrative data on each inmate in participating states' custody:

• County of sentencing

• State and federal inmate identification numbers

• Dates of: Birth, prison admission, prison release, projected prison release, mandatory prison release, eligibility hearing for post-custody community corrections supervision, post-custody community corrections supervision entry, post-custody community corrections supervision exit

• First, middle, and last names

• Demographic information: Sex, race, Hispanic origin, education level, prior military service, date and type of last discharge from military

• Offense type and number of counts per inmate for a maximum of three convicted offenses per inmate

• Total sentence length imposed

• Type of facility where inmate is serving sentence (for year-end custody census records only, the name of the facility is also requested)

• Type of prison admission

• Type of prison release

• Location of post-custody community supervision exit or post-custody community supervision office (post-custody community supervision records only)

• Social security number

• Address of last residence prior to incarceration

• Prison security level at which the inmate is held

BJS is not proposing making additions or deletions from the previously approved collection.

BJS uses the information gathered in NCRP in published reports and statistics. The reports will be made available to the U.S. Congress, Executive Office of the President, practitioners, researchers, students, the media, others interested in criminal justice statistics, and the general public via the BJS website.

BJS received zero comments to its 60-day Federal Register Notice (https://www.federalregister.gov/documents/2021/07/13/2021-14831/agency-information-collection-activities-proposed-ecollection-ecomments-requested-extension-of-a). Responses to these comments will be included in the final clearance package submitted to OMB and available at the NCRP page on www.reginfo.gov (https://www.reginfo.gov/public/do/PRAOMBHistory?ombControlNumber=1121-0065).

(5) An estimate of the total number of respondents and the amount of time estimated for an average respondent to respond: BJS anticipates 57 respondents to NCRP by 2022: 50 state DOC respondents and seven separate parole supervising agencies (in six states and the District of Columbia). All 50 DOCs have recently submitted NCRP prison data, and 40 DOCs or parole boards have submitted PCCS data in the last four years.

Burden hours for prison records (NCRP-1A, NCRP-1B, NCRP-1D): All 50 DOCs have recently submitted NCRP prison data, so the average time needed to continue providing prison data is expected to be 8 hours per respondent for prisoner admissions and releases (NCRP-1A and NCRP-1B) and 8 hours for data on persons in prison at year-end (NCRP-1D), based on conversations with data providers during follow-up calls. The average of 8 hours per respondent considers that some respondents need just 2 hours to make a copy of a research database, while others may need to do additional work, including modifying computer programs, preparing input data, and documenting the record layout.

In 2022-2024, BJS expects to have all 50 DOCs providing NCRP prison data. The burden for provision of the NCRP data will remain at the 2021 level of 14 hours per respondent due to the fact that the survey is not changing for this approval, for a total of 700 hours annually for the 50 DOCs in 2022, 2023 and 2024.

Burden hours for PCCS records (NCRP-1E, NCRP-1F): There are currently 40 jurisdictions submitting PCCS data (35 DOCs and 5 parole supervising agencies), and BJS estimates that extraction and submission of both the PCCS entries and exits takes an average of 8 hours per jurisdiction. In 2022-2024, BJS hope to recruit an additional 5 jurisdictions to submit NCRP PCCS data. For those 40 supervising agencies currently responding, provision of the PCCS data in 2022-2024 will total 320 hours (8 hours * 40 = 320 hours) annually. The total estimate for submission of PCCS for new jurisdictions in 2022-2024 is 120 hours (24 hours * 5 = 120 hours). For new agencies, BJS assumes the initial submission will take about three times longer than established reporters to account for programming, questions, and submission. The total amount of time for all PCCS submissions annually is 440 hours.

Burden hours for data review/follow-up consultations: Follow-up consultations with respondents are usually necessary while processing the data to obtain further information regarding the definition, completeness and accuracy of their report. The duration of these follow-up consultations will vary based on the number of record types submitted, so BJS has estimated an average of 3 hours per jurisdiction to cover all of the records (prison and/or PCCS) submitted. In 2022, BJS anticipates that one of the two parole supervising agencies not currently submitting PCCS data will begin to submit, so the number of jurisdictions requiring follow-up consultations is 51 (50 DOCs submitting at least the prison data, and one parole supervising agency submitting only PCCS data). This yields a total of 153 hours of follow-up consultation after submission. This total estimate of 153 hours for data review/follow-up consultations remains the same for 2023 and 2024.

Total burden hours for submitting NCRP data: BJS anticipates that the total annual burden for provision of all NCRP data across the jurisdictions will participate in 2022-2024 is anticipated to be 1,293 hours (700 hours for prison records, 440 hours for PCCS records, and 153 hours for follow-up consultation), or 25 hours per respondent.

(6) An estimate of the total public burden (in hours) associated with the collection: There are an estimated 1,293 total burden hours associated with this collection in 2022, 2023, and 2024.

If additional information is required contact: Melody Braswell, Department Clearance Officer, United States Department of Justice, Justice Management Division, Policy and Planning Staff, Two Constitution Square, 145 N Street NE, 3E.405B, Washington, DC 20530.

Dated: September 15, 2021.
Melody Braswell,
Department Clearance Officer for PRA, U.S. Department of Justice.

[FR Doc. 2021-20260 Filed 9-17-21; 8:45 am]

BILLING CODE 4410-18-P